TENNESSEE VALLEY AUTHORITY

Meeting of the Regional Energy Resource Council and Public Session With the TVA Board

AGENCY: Tennessee Valley Authority (TVA).

ACTION: Notice of meeting and public session.

SUMMARY: The TVA Regional Energy Resource Council (RERC) will hold a meeting on Monday, April 20 and Tuesday April 21, 2015, regarding regional energy related issues in the Tennessee Valley. In conjunction with the meeting, the RERC will join the TVA Board in a public session on April 20 to hear viewpoints from stakeholders regarding TVA's recently released Draft 2015 Integrated Resource Plan (IRP) and associated Supplemental Environmental Impact Statement (SEIS).

The RERC was established to advise TVA on its energy resource activities and the priorities among competing objectives and values. Notice of this meeting is given under the Federal Advisory Committee Act (FACA), 5 U.S.C. App. 2, and TVA's procedures implementing the National Environmental Policy Act, 42 U.S.C. 4321 to 4370h.

The meeting agenda includes the following:

1. Welcome and Introductions

2. Recap of February 2015 meeting

3. Presentations and discussion regarding TVA's Draft IRP and Draft SEIS, public comments and feedback, and TVA's response strategy

4. Panel discussions related to energy efficiency, renewables, and IRP implementation

5. Public Comments

6. Council discussion

After panel presentations and discussions on April 20, members of the public will have the opportunity to comment on the Draft IRP and associated SEIS to the RERC and TVA Board. The public comment period will be approximately one hour and is scheduled to start at 3:15 and terminate at 4:15 (CDT), Monday, April 20, 2015.

Participation in the public comment period of the meeting will be available on a first-come, first-served basis. Speakers will be limited to three (3) minutes in order to allow as many people as possible to participate. You can register to speak on TVA's Board Web site until noon (CDT) on Friday April 19. In addition, you can register at the door on April 20 before 2:15 (CDT). Comments also can be submitted by mail to the Regional Energy Resource Council, Tennessee Valley Authority, 400 West Summit Hill Drive, WT-9D, Knoxville, Tennessee 37902; to Charles P. Nicholson, NEPA Project Manager, Tennessee Valley Authority, 400 West Summit Hill Dr., WT-11D, Knoxville, TN 37902; by email to IRP@tva.gov; or online via http://www.tva.gov/irp.

All comments, oral and written, including names and addresses, will become part of the administrative record associated with TVA's IRP and SEIS review and will be available for public inspection. Comments must be received no later than April 27, 2015, to be considered.

DATES: The RERC meeting will be held on Monday, April 20, 2015, from 9:00 a.m. to 4:45 p.m. and Tuesday, April 21, 2015, from 8:30 a.m. to noon CDT.

ADDRESSES: The meeting will be held at the Loews Vanderbilt Hotel, 2100 West End Avenue, Nashville, TN 37402, and will be open to the public. Anyone needing special access or accommodations should let the contact below know at least a week in advance.

FOR FURTHER INFORMATION CONTACT: Beth Keel, 400 West Summit Hill Drive, WT-9 D, Knoxville, Tennessee 37902, (865) 632-6113.

Dated: March 30, 2015.
Joseph J. Hoagland,
Vice President, Stakeholder Relations, Tennessee Valley Authority.

[FR Doc. 2015-07661 Filed 4-2-15; 8:45 am]

BILLING CODE 8120-08-P